DEPARTMENT OF THE INTERIOR

National Park Service

Notice of Inventory Completion: McWane Science Center, Birmingham, AL

AGENCY: National Park Service, Interior.

ACTION: Notice.

Notice is here given in accordance with the Native American Graves Protection and Repatriation Act (NAGPRA), 25 U.S.C. 3003, of the completion of an inventory of human remains and associated funerary objects in the possession of the McWane Science Center, Birmingham, AL. The human remains and associated funerary objects were removed from Yell County, AR.

This notice is published as part of the National Park Service's administrative responsibilities under NAGPRA, 25 U.S.C. 3003 (d)(3). The determinations in this notice are the sole responsibility of the museum, institution, or Federal agency that has control of the human remains and associated funerary objects. The National Park Service is not responsible for the determinations in this notice.

A detailed assessment of the human remains was made by the McWane Science Center's professional staff in consultation with representatives of the Quapaw Tribe of Indians, Oklahoma.

In the early 1900s, human remain representing the minimum of one individual were removed from the Carden Bottoms site (3YE14) in Yell County, AR. Sometime between 1979 and 1985, G.E. Pilquist, a collector from Dardanelle, AR, donated the human remains to the Red Mountain Museum, Birmingham, AL. In 1994, the Red Mountain Museum merged with the Discovery Place under the name Discovery 2000 Inc., and now operates as McWane Science Center. No known individual was identified. The five associated funerary objects are three stone beads, one small copper bracelet, and one metal cone.

Museum records state that the human remains were recovered from a grave. Diagnostic artifacts indicate that the human remains were probably buried after European contact. Physical examination reveals the skeletal remains to be those of a child, and burial context associates the human remains with Native American populations. Archeological evidence indicates a continuity of the site from A.D. 1350 into the early historic period. The human remains and associated funerary objects may be a late component of the Carden Bottoms complex, common along the Lower Arkansas River, including Yell County. The Quapaw Tribe dominated that area when sustained European occupation of the lower Arkansas River began in the mid to late 1600s. In 1818, the Quapaw ceded the area south of the Arkansas River, including what is now Yell County, to the United States. Based on the geographic evidence and the date attributed to the human remains, the human remains are most likely culturally affiliated to the Quapaw Tribe of Indians, Oklahoma. In addition, the Quapaw Tribe of Oklahoma has previously repatriated human remains from the Carden Bottoms site (3YE14). Unassociated funerary objects removed from the Carden Bottoms site are described in an accompanying Notice of Intent to Repatriate Cultural Items.

Officials of McWane Science Center have determined that, pursuant to 25 U.S.C. 3001 (9-10), the human remains described above represent the physical remains of one individual of Native American ancestry. Officials of McWane Science Center also have determined that, pursuant to 25 U.S.C. 3001 (3)(A), the five objects described above are reasonably believed to have been placed with or near individual human remains at the time of death or later as part of the death rite or ceremony and are believed, by a preponderance of the evidence, to have been removed from a specific burial site of a Native American individual. Lastly, officials of McWane Science Center have determined that, pursuant to 25 U.S.C. 3001 (2), there is a relationship of shared group identity that can be reasonably traced between the Native American human remains and associated funerary objects and the Quapaw Tribe of Indians, Oklahoma.

Representatives of any other Indian tribe that believes itself to be culturally affiliated with the human remains and associated funerary objects should contact Jun Ebersole, Collections Manager, McWane Science Center, 200 19th St. N, Birmingham, AL 35203, telephone (205) 714-8347, before September 22, 2008. Repatriation of the human remains and associated funerary objects to the Quapaw Tribe of Indians, Oklahoma may proceed after that date if no additional claimants come forward.

The McWane Science Center is responsible for notifying the Quapaw Tribe of Indians, Oklahoma that this notice has been published.

Dated: July 14, 2008
Sherry Hutt,
Manager, National NAGPRA Program.

[FR Doc. E8-19320 Filed 8-20-08; 8:45 am]

BILLING CODE 4312-50-S